SECURITIES AND EXCHANGE COMMISSION

Sunshine Act Meeting; Cancellation

FEDERAL REGISTER CITATION OF PREVIOUS ANNOUNCEMENT: 85 FR 81258, December 15, 2020.

PREVIOUSLY ANNOUNCED TIME AND DATE OF THE MEETING: Thursday, December 17, 2020 at 3:00 p.m.

CHANGES IN THE MEETING: The Closed Meeting scheduled for Thursday, December 17, 2020 at 3:00 p.m., has been cancelled.

CONTACT PERSON FOR MORE INFORMATION: For further information; please contact Vanessa A. Countryman from the Office of the Secretary at (202) 551-5400.

Dated: December 17, 2020.
Vanessa A. Countryman,
Secretary.

[FR Doc. 2020-28243 Filed 12-17-20; 4:15 pm]

BILLING CODE 8011-01-P